DEPARTMENT OF VETERANS AFFAIRS

38 CFR Part 36

RIN 2900-AK76

Loan Guaranty: Prepurchase Counseling Requirements

AGENCY: Department of Veterans Affairs.

ACTION: Proposed rule; withdrawal.

SUMMARY: The Department of Veterans Affairs (VA) published a proposed rule in the Federal Register on October 11, 2001 (66 FR 51893) to amend its loan guaranty regulations that set forth underwriting standards for VA guaranteed loans. We had proposed to require first-time homebuyers to complete homeownership counseling and to add a compensating factor for certain veterans who do not fully meet VA's underwriting standards. However, the proposed rule and comments have been superseded by recently-adopted requirements established by the Department of Defense mandating such counseling for all enlistees and by VA's decision to provide a link to the Government National Mortgage Association (Ginnie Mae's) Homeownership Information Center, which provides a wide array of information for homebuyers pertaining to the homebuying process, mortgage affordability, loan calculators, credit counseling, etc. Accordingly, this document hereby withdraws the proposed rule.

DATES: The proposed rule is withdrawn as of January 31, 2005.

FOR FURTHER INFORMATION CONTACT: R.D. Finneran, Assistant Director for Loan Policy and Valuation (262), Loan Guaranty Service, Veterans Benefits Administration, Department of Veterans Affairs, 810 Vermont Avenue, NW., Washington, DC 20420 (202) 273-7368.

Approved: December 17, 2004.
Anthony J. Principi,
Secretary of Veterans Affairs.

[FR Doc. 05-1712 Filed 1-28-05; 8:45 am]

BILLING CODE 8320-01-P